DEPARTMENT OF COMMERCE

International Trade Administration

[A-570-827]

Certain Cased Pencils From the People's Republic of China: Final Results of the Antidumping Duty Administrative Review

AGENCY: Import Administration, International Trade Administration, Department of Commerce.

SUMMARY: On January 13, 2011, the Department of Commerce (“Department”) published the preliminary results of the administrative review of the antidumping duty order on certain cased pencils from the People's Republic of China (“PRC”), covering the period December 1, 2008, through November 30, 2009. We gave interested parties an opportunity to comment on the preliminary results, however we did not receive any comments. As a result, we have not made changes to our margin calculations for the final results of this review. The final dumping margins for this review are listed in the “Final Results of the Review” section below.

DATES: Effective Date: May 13, 2011.

FOR FURTHER INFORMATION CONTACT: Mahnaz Khan or David Layton, AD/CVD Operations, Office 1, Import Administration, International Trade Administration, U.S. Department of Commerce, 14th Street and Constitution Avenue, NW., Washington, DC 20230; telephone (202) 482-0914 or (202) 482-0371, respectively.

SUPPLEMENTARY INFORMATION:

Background

Following the preliminary results of review (See Certain Cased Pencils From the People's Republic of China: Preliminary Results and Partial Rescission of Antidumping Duty Administrative Review, 76 FR 2337 (January 13, 2011) (“Preliminary Results”)), the Department issued an additional supplemental questionnaire to mandatory respondent Shandong Rongxin Import and Export Co., Ltd. (“Rongxin”) on January 10, 2011, and received a response on January 28, 2011. The Department also issued an additional supplemental questionnaire to Beijing Fila Dixon Stationery Company Ltd. (“Beijing Dixon”), the other mandatory respondent, on January 31, 2011. Beijing Dixon responded on February 16, 2011.

We did not receive case briefs from any party, and none of the parties requested a hearing.

Scope of the Order

Imports covered by the order are shipments of certain cased pencils of any shape or dimension (except as described below) which are writing and/or drawing instruments that feature cores of graphite or other materials, encased in wood and/or man-made materials, whether or not decorated and whether or not tipped (e.g., with erasers, etc.) in any fashion, and either sharpened or unsharpened. The pencils subject to the order are currently classifiable under subheading 9609.10.00 of the Harmonized Tariff Schedule of the United States (“HTSUS”). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: (1) Length: 13.5 or more inches; (2) sheath diameter: Not less than one-and-one-quarter inches at any point (before sharpening); and (3) core length: not more than 15 percent of the length of the pencil.

In addition, pencils with all of the following physical characteristics are excluded from the scope of the order: Novelty jumbo pencils that are octagonal in shape, approximately ten inches long, one inch in diameter before sharpening, and three-and-one-eighth inches in circumference, composed of turned wood encasing one-and-one-half inches of sharpened lead on one end and a rubber eraser on the other end.

Although the HTSUS subheading is provided for convenience and customs purposes, the written description of the scope of the order is dispositive.

Final Results of the Review

We determine that the following margins exist for the period December 1, 2008, through November 30, 2009:

Company | Margin (percent)
Beijing Fila Dixon Stationery Company Ltd. | 0.00
Shandong Rongxin Import and Export Co., Ltd. | 0.17

Assessment Rates

The Department has determined, and U.S. Customs and Border Protection (“CBP”) shall assess, antidumping duties on all appropriate entries. The Department intends to issue assessment instructions to CBP 15 days after the date of publication of these final results of review.

In accordance with 19 CFR 351.212(b)(1), we calculated exporter/importer-specific (or customer-specific) assessment rates for merchandise subject to this review. Beijing Dixon reported entered values for its U.S. sales. Therefore, we calculated importer (or customer) specific ad valorem rates by aggregating the dumping margins calculated for all U.S. sales to each importer (or customer), and dividing this amount by the entered value of the sales to each importer (or customer). Rongxin did not report entered values for its U.S. sales. Therefore, we calculated a per-unit assessment rate for each importer (or customer) by dividing the total dumping margins for reviewed sales to that party by the total sales quantity associated with those transactions. For duty-assessment rates calculated on this basis, we will direct CBP to assess the resulting per-unit rate against the entered quantity of the subject merchandise.

To determine whether the duty assessment rates were de minimis, in accordance with the requirement set forth in 19 CFR 351.106(c)(2), the Department calculated importer-specific ad valorem ratios based on the entered value or the estimated entered value, when entered value was not reported. Pursuant to 19 CFR 351.106(c)(2), we will instruct CBP to liquidate without regard to antidumping duties any entries for which the assessment rate is de minimis (i.e., less than 0.50 percent).

We intend to instruct CBP to liquidate entries of subject merchandise exported by the PRC-wide entity at the estimated antidumping duty rate in effect at the time of entry. Because the PRC-wide entity was not reviewed during this period of review, the PRC-wide rate remains 114.90 percent, the rate established in the administrative review for the most recent period.

Cash Deposit Requirements

The following cash-deposit requirements will apply to all shipments of certain cased pencils from the PRC entered, or withdrawn from warehouse, for consumption on or after the publication date of the final results of this administrative review, as provided by section 751(a)(1) of the Act: (1) Because the cash deposit rates for Rongxin and Beijing Dixon are de minimis, i.e., the rate is less than 0.5 percent, no cash deposits will be required for Rongxin and Beijing Dixon; (2) for any previously reviewed or investigated PRC or non-PRC exporter, not covered in this review, with a separate rate, the cash deposit rate will be the company-specific rate established in the most recent segment of this proceeding; (3) for all other PRC exporters, the cash deposit rate will be the PRC-wide rate established in the final results of the administrative review for the most recent period, which is 114.90 percent; and (4) the cash-deposit rate for any non-PRC exporter of subject merchandise from the PRC will be the rate applicable to the PRC exporter that supplied that exporter. These deposit requirements, when imposed, shall remain in effect until further notice.

Notification to Interested Parties

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a final reminder to parties subject to the administrative protective order (“APO”) of their responsibility concerning the return or destruction of proprietary information disclosed under the APO in accordance with 19 CFR 351.305. Timely written notification of the return or destruction of APO materials or conversion to judicial protective order is hereby requested. Failure to comply with the regulations and the terms of an APO is a sanctionable violation.

This notice of final results is issued and published in accordance with sections 751(a)(1) and 777(i)(1) of the Act.

Dated: May 9, 2011.
Ronald K. Lorentzen,
Deputy Assistant Secretary for Import Administration.

[FR Doc. 2011-11847 Filed 5-12-11; 8:45 am]

BILLING CODE 3510-DS-P